DEPARTMENT OF TRANSPORTATION

Federal Aviation Administration

14 CFR Part 39

[Docket No. FAA-2005-21779; Directorate Identifier 2002-NM-349-AD]

RIN 2120-AA64

Airworthiness Directives; McDonnell Douglas Model DC-9-10 Series Airplanes; DC-9-20 Series Airplanes; DC-9-30 Series Airplanes; DC-9-40 Series Airplanes; and DC-9-50 Series Airplanes

AGENCY: Federal Aviation Administration (FAA), Department of Transportation (DOT).

ACTION: Notice of proposed rulemaking (NPRM).

SUMMARY: The FAA proposes to supersede an existing airworthiness directive (AD) that applies to certain McDonnell Douglas transport category airplanes. The existing AD requires, among other things, revision of an existing program of structural inspections. This proposed AD would require the implementation of a program of structural inspections of baseline structure to detect and correct fatigue cracking in order to ensure the continued airworthiness of these airplanes as they approach the manufacturer's original fatigue design life goal. This proposed AD is prompted by a significant number of these airplanes approaching or exceeding the design service goal on which the initial type certification approval was predicated. We are proposing this AD to detect and correct fatigue cracking that could compromise the structural integrity of these airplanes.

DATES: We must receive comments on this proposed AD by August 22, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

For service information identified in this proposed AD, contact Boeing Commercial Airplanes, Long Beach Division, 3855 Lakewood Boulevard, Long Beach, California 90846, Attention: Data and Service Management, Dept. C1-L5A (D800-0024).

You can examine the contents of this AD docket on the Internet at http://dms.dot.gov, or in person at the Docket Management Facility, U.S. Department of Transportation, 400 Seventh Street, SW., room PL-401, on the plaza level of the Nassif Building, Washington, DC. This docket number is FAA-2005-21779; the directorate identifier for this docket is 2002-NM-349-AD.

FOR FURTHER INFORMATION CONTACT: Wahib Mina, Aerospace Engineer, Airframe Branch, ANM-120L, FAA, Los Angeles Aircraft Certification Office, 3960 Paramount Boulevard, Lakewood, California 90712-4137; telephone (562) 627-5324; fax (562) 627-5210.

SUPPLEMENTARY INFORMATION:

Comments Invited

We invite you to submit any relevant written data, views, or arguments regarding this proposed AD. Send your comments to an address listed under ADDRESSES. Include “Docket No. FAA-2005-21779; Directorate Identifier 2002-NM-349-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On June 12, 1996, we issued AD 96-13-03, amendment 39-9671 (61 FR 31009, June 19, 1996), for all McDonnell Douglas Model DC-9-10, -20, -30, -40, -50, and C-9 (Military) series airplanes. (Since the issuance of that AD, the FAA has revised the applicability of the existing AD to identify model designations as published in the most recent type certificate data sheet for the affected models.) That AD requires implementation of a program of structural inspections to detect and correct fatigue cracking in order to ensure the continued airworthiness of these airplanes as they approach the manufacturer's original fatigue design life goal. That AD also requires, among other things, revision of the existing program to require additional visual inspections of additional structure. That AD was prompted by data submitted by the manufacturer indicating that certain revisions to the program were necessary in order to increase the confidence level of the statistical program to ensure timely detection of cracks in various airplane structures. We issued that AD to prevent fatigue cracking that could compromise the structural integrity of those airplanes.

Supplemental Inspection Documents (SIDs) ADs

In the early 1980's, as part of our continuing work to maintain the structural integrity of older transport category airplanes, we concluded that the incidence of fatigue cracking may increase as these airplanes reach or exceed their design service goal (DSG). A significant number of these airplanes were approaching or had exceeded the DSG on which the initial type certification approval was predicated. In light of this, and as a result of increased utilization, longer operational lives, and the high levels of safety expected of the currently operated transport category airplanes, we determined that a supplemental structural inspection program (SSIP) was necessary to ensure a high level of structural integrity for all airplanes in the transport fleet.

Issuance of Advisory Circular

As a follow-on from that determination, we issued Advisory Circular (AC) No. 91-56, “Supplemental Structural Inspection Program for Large Transport Category Airplanes,” dated May 6, 1981. That AC provides guidance material to manufacturers and operators for use in developing a continuing structural integrity program to ensure safe operation of older airplanes throughout their operational lives. This guidance material applies to transport airplanes that were certified under the fail-safe requirements of part 4b (“Airplane Airworthiness, Transport Categories”) of the Civil Air Regulations of the Federal Aviation Regulations (FAR) (14 CFR part 25), and that have a maximum gross weight greater than 75,000 pounds. The procedures set forth in that AC are applicable to transport category airplanes operated under subpart D (“Special Flight Operations”) of part 91 of the FAR (14 CFR part 91); part 121 (“Operating Requirements: Domestic, Flag, and Supplemental Operations”); part 125 (“Certification and Operations: Airplanes having a Seating Capacity of 20 or More Passengers or a Maximum Payload of 6,000 Pounds or More”); and part 135 (“Operating Requirements: Commuter and On-Demand Operations”) of the FAR (14 CFR parts 121, 125, and 135). The objective of the SSIP was to establish inspection programs to ensure timely detection of fatigue cracking.

Aging Aircraft Safety Act (AASA)

In October 1991, Congress enacted Title IV of Public Law 102-143, the AASA of 1991, to address aging aircraft concerns. That Act instructed the FAA administrator to prescribe regulations that will ensure the continuing airworthiness of aging aircraft.

SSID Team

In April 2000 the Transport Airplane Directorate (TAD) chartered a SSID Team to develop recommendations to standardize the SID/SSID ADs regarding the treatment of repairs, alterations, and modifications (RAMs). The report can be accessed at http://www.faa.gov/certification/aircraft/transport.htm.

FAA Responses to AASA

In addition to the SSID Team activity, there are other on-going activities associated with FAA's Aging Aircraft Program. This includes, among other initiatives, our responses to the AASA.

On January 25, 2005, as one of the responses to the AASA, we issued the Aging Airplane Safety; Final Rule (AASFR) (70 FR 5518, February 2, 2005). The AASFR revised the interim final rule that was published on December 6, 2002 (67 FR 72726, December 6, 2002) and revised by technical amendment (68 FR 69307, December 12, 2004). The AASFR applies to certain transport category, turbine powered airplanes with a type certificate issued after January 1, 1958 (including the airplanes that would be subject to this AD) that are operated under 14 CFR parts 121 or 129, with the exception of airplanes operated within the State of Alaska. Sections 121.370a and 129.16 of the AASFR require the maintenance programs of those airplanes to include damage tolerance-based inspections and procedures for structure that is susceptible to fatigue cracking that could contribute to a catastrophic failure. The inspections and procedures must take into account the adverse affects that repairs, alterations, and modifications may have on fatigue cracking and the inspection of the structure. The procedures are to be established and incorporated before December 20, 2010. Compliance with this proposed AD would also be compliance with some aspects of the AASFR.

Public Technical Meeting

The TAD also held a public meeting regarding standardization of the FAA approach to RAMs in SID/SSID ADs on February 27, 2003, in Seattle, Washington. We presented our views and heard comments from the public concerning issues regarding the standardization of the requirements of ADs for certain transport category airplanes that mandate SSIDs, and that address the treatment of RAMs for those certain transport category airplanes. Our presentation included a plan for the standardization of SID/SSID ADs, the results of the SSID Team findings, and the TAD vision of how SID/SSID ADs may support compliance to the AASIFR. We also asked for input from operators on the issues addressing RAMs in SID/SSID ADs. One of the major comments presented at the public meeting was that operators do not have the capability to accomplish the damage tolerance assessments, and they will have to rely on the manufacturers to perform those assessments. Furthermore, the operators believe that the timeframes to accomplish the damage tolerance assessments will not permit manufacturers to support the operators. Another major comment presented was from the Airworthiness Assurance Working Group (AAWG) of the Aviation Rulemaking Advisory Committee (ARAC). The AAWG requested that we withdraw the damage tolerance requirements from the final rule and task AAWG to develop a new RAM damage tolerance based program with timelines to be developed by ARAC. The public meeting presentations can be accessed at http://www.faa.gov/certification/aircraft/transport.htm.

Relevant Service Information

We have reviewed Boeing Report No. L26-008, “DC-9 All Series Supplemental Inspection Document (SID), Volume 1, Revision 6, dated November 2002. The purpose of Boeing Report No. L26-008 is to define the mandatory inspection requirements for the Principal Structural Elements (PSEs) and to provide specific non-destructive inspection (NDI) techniques and procedures for each PSE. Revision 6 also revises the maintenance program by removing provisions for the sampling inspection program. However, Revision 6 retains the program goal to inspect airplanes in advance of a certain threshold for the possibility of increasing that threshold and using service history to justify delaying inspections on the younger portion of the fleet. As with previous revisions, Revision 6 provides credit for inspections previously accomplished within the required intervals. The SID provides a description of PSEs, NDI locations, planning and reporting procedures and certain criteria upon which the supplemental inspection program is based.

We have also reviewed Boeing Report No. L26-008, “DC-9 Series 10/20 Supplemental Inspection Document (SID), Volume II—10/20, Revision 6, dated November 2004;” “DC-9 Series 20/30 Supplemental Inspection Document (SID), Volume II—20/30, Revision 7, dated November 2004;” “DC-9 Series 40 Supplemental Inspection Document (SID, Volume II—40, Revision 6, dated November 2004;” and “DC-9 Series 50 Supplemental Inspection Document (SID), Volume II—50, Revision 6, dated November 2004.” Those Volume II documents describe specific non-destructive testing inspections of the SID, and have been approved as an acceptable alternative method of compliance with corresponding paragraphs of AD 96-13-03.

Accomplishing the actions specified in the service information described above is intended to adequately address the unsafe condition.

FAA's Determination and Requirements of the Proposed AD

We have evaluated all pertinent information and identified an unsafe condition that is likely to exist or develop on other products of this same type design. This proposed AD would retain the requirements of AD 96-13-03. This proposed AD also would continue to require revision of the FAA-approved maintenance program. This proposed AD would require implementation of a structural inspection program of baseline structure to detect and correct fatigue cracking in order to ensure the continued airworthiness of airplanes as they approach the manufacturer's original fatigue design life goal. For the purposes of this proposed AD, a PSE is defined as an element that contributes significantly to the carrying of flight, ground or pressurization loads, and the integrity of that element is essential in maintaining the overall structural integrity of the airplane.

Editorial Clarifications

Paragraph (b) of AD 96-13-03 (which is renumbered as paragraph (f) of this AD) requires, among other things, that the maintenance program be revised to include the inspection threshold and repetitive inspections (planning data) defined in Section 2 of Volume III-95 of the SID. Paragraph (b)(3) of AD 96-13-03 (renumbered as paragraph (f)(3) of this AD) also requires inspection results to be reported in accordance with Section 2 of Volume III-95. Those planning and data reporting requirements are now contained in Section 4 of Volume 1, Revision 6, dated November 2002. Therefore, this proposed AD would require use of the information in Section 4 of Volume 1, Revision 6, and reference to Volume III has been removed in the new requirements of this proposed AD.

The following paragraphs summarize certain specific actions proposed in this AD.

Revision of the Maintenance Program

Paragraph (h) of the proposed AD would require a revision of the maintenance inspection program that provides for inspection(s) of the PSE per Boeing Report No. L26-008, “DC-9 All Series, Supplemental Inspection Document (SID),” Volume 1, Revision 6, dated November 2002. PSEs are also defined and specified in the SID. Unless otherwise specified, references in this proposed AD to the “SID” are to Revision 6, dated November 2002.

Non-Destructive Inspections (NDI)

Paragraph (i) of the proposed AD would specify that the SID be implemented on a PSE-by-PSE basis before structure exceeds its 75% fatigue life threshold (¾Nth), and its full fatigue life threshold (Nth). The threshold value is defined as the life of the structure measured in total landings, when the probability of failure reaches one in a billion. The DC-9 All Series SID program is not a sampling program. Airplanes would be inspected once prior to reaching both PSE thresholds (once by ¾Nth and once by Nth). In order for the inspection to have value, no PSE would be inspected prior to half of the fatigue life threshold, ½Nth. The additional ¾Nth threshold aids in advancing the threshold for some PSEs as explained in Section 4 of Volume I of the SID. Inspection of each PSE should be accomplished in accordance with the NDI procedures set forth in Volume II of the SID.

For airplanes past the threshold Nth, the proposed AD would require that the PSE be inspected at repetitive intervals not to exceed ΔNDI/2 as specified in Section 4 of Volume I of the SID per the NDI procedure, which is specified in Volume II of the SID. The definition of ΔNDI/2 is half of the life for a crack to grow from a given NDI detectable crack size to instability.

Paragraph (i) of this proposed AD also would require, for airplanes that have exceeded the Nth, that each PSE be inspected within 18 months after the effective date of this AD. The entire PSE must be inspected regardless of whether or not it has been repaired, altered, or modified.

Certain Acceptable Methods of Compliance

Paragraph (j) of this proposed AD specifies certain revision levels of Volume II of the SID that provide acceptable methods of compliance with the requirements of paragraph (j) of this proposed AD.

Discrepant Findings

Paragraph (k) of this proposed AD would require that, if any PSE is repaired, altered, or modified, it must be considered a “discrepant finding.” A discrepant PSE indicates that it could not be completely inspected because the NDI procedure could not be accomplished due to differences on the airplane from the NDI reference standard (i.e., RAMs). For any discrepancy (e.g., a PSE cannot be inspected as specified in Volume II of the SID or does not match rework, repair, or modification description in Volume I of the SID), this proposed AD would require that the discrepancy be inspected in accordance with a method approved by the FAA.

Reporting Requirements

Paragraph (l) of this proposed AD would require that all negative, positive, or discrepant findings of the inspection accomplished in paragraph (i) of the AD be reported to Boeing at the times specified, and in instructions contained in Section 4 of Volume 1 of the SID.

Corrective Action

Paragraph (m) of this proposed AD would require that any cracked structure detected during any inspection required per paragraph (i) of this AD be repaired before further flight. Additionally, paragraph (m) of this AD would require accomplishment of follow-on actions as specified in paragraphs (m)(1), (m)(2), and (m)(3) of this proposed AD, at the times specified below.

1. Within 18 months after repair, accomplish a Damage Tolerance Assessment (DTA) that defines the threshold for inspection and submit the assessment for approval to the Manager, Los Angeles Aircraft Certification Office (ACO), FAA.

2. Prior to reaching 75% of the threshold, submit the inspection methods and repetitive inspections intervals for the repair for approval by the Manager of the Los Angeles ACO.

3. Prior to the threshold, the inspection method and repetitive inspection intervals are to be incorporated into the FAA-approved structural maintenance or inspection program for the airplane.

For the purposes of this proposed AD, the FAA anticipates that submissions of the DTA of the repair, if acceptable, should be approved within six months after submission.

Transferability of Airplanes

Paragraph (n) of this proposed AD specifies the requirements of the inspection program for transferred airplanes. Before any airplane that is subject to this proposed AD can be added to an air carrier's operations specifications, a program for the accomplishment of the inspections required by this proposed AD must be established. Paragraph (n) of the proposed AD would require accomplishment of the following:

1. For airplanes that have been inspected per this proposed AD, the inspection of each PSE must be accomplished by the new operator per the previous operator's schedule and inspection method, or per the new operator's schedule and inspection method, at whichever time would result in the earlier accomplishment date for that PSE inspection. The compliance time for accomplishment of this inspection must be measured from the last inspection accomplished by the previous operator. After each inspection has been performed once, each subsequent inspection must be performed per the new operator's schedule and inspection method.

2. For airplanes that have not been inspected per this proposed AD, the inspection of each PSE must be accomplished either prior to adding the airplane to the air carrier's operations specification, or per a schedule and an inspection method approved by the FAA. After each inspection has been performed once, each subsequent inspection must be performed per the new operator's schedule.

Accomplishment of these actions will ensure that: (1) An operator's newly acquired airplanes comply with its SSIP before being operated; and (2) frequently transferred airplanes are not permitted to operate without accomplishment of the inspections defined in the SSID.

Inspections Accomplished Before the Effective Date of this AD

Paragraph (o) of this proposed AD merely provides approval of Boeing Report No. L26-008, “DC-9 All Series Supplemental Inspection Document (SID),” Volume I, Revision 6, dated November 2002; as acceptable for compliance with the requirements of paragraph (i) of this proposed AD for inspections accomplished before the effective date of the proposed AD.

Acceptable for Compliance

Paragraph (p) of this proposed AD also provides approval of McDonnell Douglas Report No. MDC91K0263, “DC-9/MD-80 Aging Aircraft Repair Assessment Program Document,” Revision 1, dated October 2000 as an acceptable means of compliance with the requirements of paragraphs (i) and (m) of this proposed AD for repairs and inspection/replacement for certain repairs to the fuselage pressure shell accomplished prior to the effective date of the proposed AD.

Change to Existing AD

This proposed AD would retain the requirements of AD 96-13-03. Since AD 96-13-03 was issued, the AD format has been revised, and certain paragraphs have been rearranged. As a result, the corresponding paragraph identifiers have changed in this proposed AD, as listed in the following table:

Revised Paragraph Identifiers
Requirement in AD 96-13-03 | Corresponding requirement in this proposed AD
Paragraph (a) | Paragraph (f).
Paragraph (b) | Paragraph (g).
Paragraph (c) | Paragraph (h).

Other Editorial Changes

The “tables” specified in the regulatory text of this proposed rule, including the tables restated from AD 96-13-03, have been numbered for easy reference.

Interim Action

This is considered to be interim action. We are currently considering requiring damage tolerance-based inspections and procedures that include all major structural RAMs, which may result in additional rulemaking. That rulemaking may include appropriate recommendations from the previously mentioned FAA team and a public meeting on how to address RAMs.

Costs of Compliance

There are about 710 McDonnell Douglas transport category airplanes worldwide of the affected design. This proposed AD would affect about 477 airplanes of U.S. registry, or 26 U.S. airline operators.

The recurring inspection costs, as required by AD-96-13-03, take 362 work hours per airplane, at an average labor rate of $65 per work hour. Based on these figures, the estimated cost of the currently required actions is $11,223,810, or $23,530 per airplane, per inspection cycle.

The incorporation of the revised procedures in this AD action will require approximately 20 additional work hours per operator to accomplish, at an average labor rate of $65 per work hour. Based on these figures, the cost to the 26 affected U.S. operators to incorporate these revised procedures into the SID program is estimated to be $33,800, or $1,300, per operator.

Additionally, the number of required work hours for each proposed inspection (and the SID program), as indicated above, is presented as if the accomplishment of those actions were to be conducted as “stand alone” actions. However, in actual practice, these actions for the most part will be accomplished coincidently or in combination with normally scheduled airplane inspections and other maintenance program tasks. Further, any costs associated with special airplane scheduling are expected to be minimal.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-9671 (61 FR 31009, June 19, 1996) and adding the following new airworthiness directive (AD):

McDonnell Douglas: Docket No. FAA-2005-21779; Directorate Identifier 2002-NM-349-AD.

Comments Due Date

(a) The Federal Aviation Administration must receive comments on this airworthiness directive (AD) action by August 22, 2005.

Affected ADs

(b) This AD supersedes AD 96-13-03, amendment 39-9671 (61 FR 31009, June 19, 1996).

Applicability

(c) This AD applies to all McDonnell Douglas Model DC-9-11, DC-9-12, DC-9-13, DC-9-14, DC-9-15, and DC-9-15F airplanes; DC-9-21 airplanes; DC-9-31, DC-9-32, DC-9-32 (VC-9C), DC-9-32F, DC-9-33F, DC-9-34; DC-9-34F, and DC-9-32F (C-9A, C-9B) airplanes; DC-9-41 airplanes; and DC-9-51 airplanes; certificated in any category.

Unsafe Condition

(d) This AD was prompted by a significant number of these airplanes approaching or exceeding the design service goal on which the initial type certification approval was predicated. We are issuing this AD to detect and correct fatigue cracking that could compromise the structural integrity of these airplanes.

Compliance

(e) You are responsible for having the actions required by this AD performed within the compliance times specified, unless the actions have already been done.

Requirements of AD 96-13-03

Revision of the FAA-Approved Maintenance Inspection Program

(f) Within 6 months after July 24, 1996 (the effective date of AD 96-13-03, amendment 39-9671), replace the FAA-approved maintenance inspection program with a revision that provides for inspection(s) of the principal structural elements (PSEs) defined in McDonnell Douglas Report No. L26-008, “DC-9 Supplemental Inspection Document (SID),” Section 2 of Volume I of McDonnell Douglas Report No. L26-008, “DC-9 Supplemental Inspection Document (SID),” Revision 4, dated July 1993, in accordance with Section 2 of Volume III-95, dated September 1995, of the SID.

Note 1: Operators should note that certain visual inspections of FLOS PSE's that were previously specified in earlier revisions of Volume III of the SID are no longer specified in Volume III-95 of the SID.

(1) Prior to reaching the threshold (Nth), but no earlier than one-half of the threshold (½Nth), specified for all PSE's listed in Volume III-95, dated September 1995, of the SID, inspect each PSE sample in accordance with the non-destructive inspection (NDI) procedures set forth in Section 2 of Volume II, dated July 1993. Thereafter, repeat the inspection for that PSE at intervals not to exceed ΔNDI/2 of the NDI procedure that is specified in Volume III-95, dated September 1995, of the SID.

(2) The NDI techniques set forth in Section 2 of Volume II, dated July 1993, of the SID provide acceptable methods for accomplishing the inspections required by this paragraph.

(3) All inspection results (negative or positive) must be reported to McDonnell Douglas, in accordance with the instructions contained in Section 2 of Volume III-95, dated September 1995, of the SID. Information collection requirements contained in this regulation have been approved by the Office of Management and Budget (OMB) under the provisions of the Paperwork Reduction Act of 1980 (44 U.S.C. 3501 et seq.) and have been assigned OMB Control Number 2120-0056.

Note 2: Volume II of the SID, dated July 1993, is comprised of the following:

Table 1
Volume designation | Revision level shown on volume
Volume II-10/20 | 4
Volume II-20/30 | 5
Volume II-40 | 4
Volume II-50 | 4

Note 3: NDI inspections accomplished in accordance with the following Volume II of the SID provide acceptable methods for accomplishing the inspections required by this paragraph:

Table 2
Volume designation | Revision level | Date of revision
Volume II-10/20 | 4 | July 1993.
Volume II-10-20 | 3 | April 1991.
Volume II-10/20 | 2 | April 1990.
Volume II-10/20 | 1 | June 1989.
Volume II-20 | Original | Nov. 1987.
Volume II-20/30 | 5 | July 1993.
Volume II-20/30 | 4 | April 1991.
Volume II-20/30 | 3 | April 1990.
Volume II-20/30 | 2 | June 1989.
Volume II-20/30 | 1 | Nov. 1987.
Volume II-40 | 4 | July 1993.
Volume II-40 | 3 | April 1991.
Volume II-40 | 2 | April 1990.
Volume II-40 | 1 | June 1989.
Volume II-40 | Original | Nov. 1987.
Volume II-50 | 4 | July 1993.
Volume II-50 | 3 | April 1991.
Volume II-50 | 2 | April 1990.
Volume II-50 | 1 | June 1989.
Volume II-50 | Original | Nov. 1987.

(g) Any cracked structure detected during the inspections required by paragraph (f) of this AD must be repaired before further flight, in accordance with a method approved by the Manager, Los Angeles Aircraft Certification Office (ACO), FAA, Transport Airplane Directorate.

Note 4: Requests for approval of any PSE repair that would affect the FAA-approved maintenance inspection program that is required by this AD should include a damage tolerance assessment for that PSE.

New Requirements of This AD

Revision of the Maintenance Inspection Program

(h) Within 12 months after the effective date of this AD, incorporate a revision into the FAA-approved maintenance inspection program that provides for inspection(s) of the PSEs, in accordance with Boeing Report No. L26-008, “DC-9 All Series, Supplemental Inspection Document (SID),” Volume I, Revision 6, dated November 2002.” Unless otherwise specified, all further references in this AD to the “SID” are to Revision 6, dated November 2002.

Non-Destructive Inspections (NDIs)

(i) For all PSEs listed in Section 2 of Volume I of the SID, perform an NDI for fatigue cracking of each PSE in accordance with the NDI procedures specified in Section 2 of Volume II, dated November 2004 of the SID, at the times specified in paragraph (i)(1), (i)(2), or (i)(3) of this AD, as applicable.

(1) For airplanes that have less than three quarters of the fatigue life threshold (¾Nth) as of the effective date of the AD: Perform an NDI for fatigue cracking no earlier than one-half of the threshold (½Nth) but prior to reaching three-quarters of the threshold (¾Nth, or within 60 months after the effective date of this AD, whichever occurs later. Inspect again prior to reaching the threshold (Nth) or ΔNDI/2, whichever occurs later, but no earlier than (¾Nth). Thereafter, after passing the threshold (Nth), repeat the inspection for that PSE at intervals not to exceed ΔNDI/2.

(2) For airplanes that have reached or exceeded three-quarters of the fatigue life threshold (¾Nth), but less than the threshold (Nth), as of the effective date of the AD: Perform an NDI prior to reaching the threshold (Nth), or within 18 months after the effective date of this AD, whichever occurs later. Thereafter, after passing the threshold (Nth), repeat the inspection for that PSE at intervals not to exceed ΔNDI/2.

(3) For airplanes that have reached or exceeded the fatigue life threshold (Nth) as of the effective date of the AD: Perform an NDI within 18 months after the effective date of this AD. Thereafter, repeat the inspection for that PSE at intervals not to exceed ΔNDI/2.

Note 5: Volume II of the SID, dated November 2004 is comprised of the following:

Table 3
Volume designation | Revision level shown on volume
Volume II-10/20 | 6
Volume II-20/30 | 7
Volume II-40 | 6
Volume II-50 | 6

Acceptable Methods of Compliance With Paragraph (j) of This AD

(j) The following revision levels of Volume II of the SID provide acceptable methods of compliance with the inspections required by paragraph (i) of this AD.

Table 4
Volume designation | Revision level | Date of revision
Volume II-10/20 | 6 | Nov. 2004.
Volume II-10/20 | 5 | July 1997.
Volume II-10/20 | 4 | July 1993.
Volume II-10/20 | 3 | April 1991.
Volume II-10/20 | 2 | April 1990.
Volume II-10/20 | 1 | June 1989.
Volume II-20 | Original | Nov. 1987.
Volume II-20/30 | 7 | Nov. 2004.
Volume II-20/30 | 6 | July 1997.
Volume II-20/30 | 5 | July 1993.
Volume II-20/30 | 4 | April 1991.
Volume II-20/30 | 3 | April 1990.
Volume II-20/30 | 2 | June 1989.
Volume II-20/30 | 1 | Nov. 1987.
Volume II-40 | 6 | Nov. 2004
Volume II-40 | 5 | July 1997.
Volume II-40 | 4 | July 1993.
Volume II-40 | 3 | April 1991.
Volume II-40 | 2 | April 1990.
Volume II-40 | 1 | June 1989.
Volume II-40 | Original | Nov. 1987.
Volume II-50 | 6 | Nov. 2004.
Volume II-50 | 5 | July 1997.
Volume II-50 | 4 | July 1993.
Volume II-50 | 3 | April 1991.
Volume II-50 | 2 | April 1990.
Volume II-50 | 1 | June 1989.
Volume II-50 | Original | Nov. 1987.

Discrepant Findings

(k) If any discrepancy (e.g., a PSE cannot be inspected as specified in Volume II of the SID or does not match rework, repair, or modification description in Volume I of the SID) is detected during any inspection required by paragraph (i) of this AD, accomplish the action specified in paragraph (k)(1) or (k)(2) of this AD, as applicable.

(1) If a discrepancy is detected during any inspection performed prior to ¾Nth or Nth: The area of the PSE affected by the discrepancy must be inspected prior to Nth or within 18 months of the discovery of the discrepancy, whichever is later, per a method approved by the Manager, Los Angeles ACO, FAA.

(2) If a discrepancy is detected during any inspection performed after Nth: The area of the PSE affected by the discrepancy must be inspected prior to the accumulation of an additional ΔNDI/2, measured from the last non-discrepant inspection finding, or within 18 months of the discovery of the discrepancy, whichever occurs later, per a method approved by the Manager of the Los Angeles ACO.

Reporting Requirements

(l) All negative, positive, or discrepant (discrepant finding examples are described in paragraph (k) of this AD) findings of the inspections accomplished under paragraph (i) of this AD must be reported to Boeing, at the times specified in, and in accordance with the instructions contained in, Section 4 of Volume I of the SID. Information collection requirements contained in this regulation have been approved by the Office of Management and Budget (OMB) under the provisions of the Paperwork Reduction Act of 1980 (44 U.S.C. 3501 et seq.) and have been assigned OMB Control Number 2120-0056.

Corrective Actions

(m) Any cracked structure of a PSE detected during any inspection required by paragraph (j) of this AD must be repaired before further flight in accordance with a method approved by the Manager, Los Angeles ACO or in accordance with data meeting the certification basis of the airplane approved by an Authorized Representative for the Boeing Delegation Option Authorization Organization who has been authorized by the Manager, Los Angeles Aircraft Certification Office (ACO), to make those findings. For a repair method to be approved, the repair must meet the certification basis of the airplane, and the approval must specifically refer to this AD. Accomplish follow-on actions described in paragraphs (m)(1), (m)(2), and (m)(3) of this AD, at the times specified.

(1) Within 18 months after repair, perform a damage tolerance assessment (DTA) that defines the threshold for inspection of the repair and submit the assessment for approval.

(2) Before reaching 75% of the repair threshold as determined in paragraph (m)(1) of this AD, submit the inspection methods and repetitive inspection intervals for the repair for approval.

(3) Before the repair threshold, as determined in paragraph (m)(1) of this AD, incorporate the inspection method and repetitive inspection intervals into the FAA-approved structural maintenance or inspection program for the airplane.

Note 6: For the purposes of this AD, we anticipate that submissions of the DTA of the repair, if acceptable, should be approved within six months after submission.

Note 7: Advisory Circular AC 25.1529-1, “Instructions for Continued Airworthiness of Structural Repairs on Transport Airplanes,” dated August 1, 1991, is considered to be additional guidance concerning the approval of repairs to PSEs.

Inspection for Transferred Airplanes

(n) Before any airplane that has exceeded the fatigue life threshold (Nth) can be added to an air carrier's operations specifications, a program for the accomplishment of the inspections required by this AD must be established per paragraph (n)(1) or (n)(2) of this AD, as applicable.

(1) For airplanes that have been inspected in accordance with this AD, the inspection of each PSE must be accomplished by the new operator per the previous operator's schedule and inspection method, or the new operator's schedule and inspection method, at whichever time would result in the earlier accomplishment date for that PSE inspection. The compliance time for accomplishment of this inspection must be measured from the last inspection accomplished by the previous operator. After each inspection has been performed once, each subsequent inspection must be performed per the new operator's schedule and inspection method.

(2) For airplanes that have not been inspected in accordance with this AD, the inspection of each PSE required by this AD must be accomplished either prior to adding the airplane to the air carrier's operations specification, or per a schedule and an inspection method approved by the Manager, Los Angeles ACO. After each inspection has been performed once, each subsequent inspection must be performed per the new operator's schedule.

Inspections Accomplished Before the Effective Date of This AD

(o) Inspections accomplished prior to the effective date of this AD per Boeing Report No. L26-008, “DC-9 All Series Supplemental Inspection Document (SID),” Volume I, Revision 6, dated November 2002 are acceptable for compliance with the requirements of paragraph (i) of this AD.

Acceptable for Compliance

(p) McDonnell Douglas Report No. MDC91K0263, “DC-9/MD-80 Aging Aircraft Repair Assessment Program Document,” Revision 1, dated October 2000, provides inspection/replacement programs for certain repairs to the fuselage pressure shell. These repairs and inspection/replacement programs are considered acceptable for compliance with the requirements of paragraphs (i) and (m) of this AD for repairs subject to that document.

Alternative Methods of Compliance (AMOCs)

(q) The Manager, Los Angeles ACO, FAA, has the authority to approve AMOCs for this AD, if requested in accordance with the procedures found in 14 CFR 39.19.

(r) AMOCs approved previously for alternative inspection procedures per AD 87-14-07 R1, amendment 39-6019; AD 94-03-01, amendment 39-8807; and AD 96-13-03, amendment 39-9671; are acceptable for compliance with the actions required by paragraph (i) of this AD for inspections accomplished before the effective date of this AD.

(s) AMOCs approved previously for repairs per AD 87-14-07 R1, amendment 39-6019; AD 94-03-01, amendment 39-8807; and AD 96-13-03, amendment 39-9671; are acceptable for compliance with the requirements of paragraph (m) of this AD.

Issued in Renton, Washington, on June 28, 2005.
Kevin M. Mullin,
Acting Manager, Transport Airplane Directorate, Aircraft Certification Service.

[FR Doc. 05-13436 Filed 7-7-05; 8:45 am]

BILLING CODE 4910-13-P